ENVIRONMENTAL PROTECTION AGENCY

40 CFR Part 721

[EPA-HQ-OPPT-2005-0015; FRL-7740-6]

RIN 2070-AJ18

Perfluoroalkyl Sulfonates; Proposed Significant New Use Rule

AGENCY: Environmental Protection Agency (EPA).

ACTION: Proposed rule.

SUMMARY: EPA is proposing to amend a significant new use rule (SNUR) under section 5(a)(2) of the Toxic Substances Control Act (TSCA) to include certain perfluoroalkyl sulfonates (PFAS) substances. EPA is proposing to amend the PFAS SNUR at 40 CFR 721.9582 by adding a new Table 3 containing the remaining PFAS chemicals on the TSCA Inventory that are not already regulated by the SNUR. This proposed rule would require manufacturers, including importers, to notify EPA at least 90 days before commencing the manufacture or import of the PFAS chemicals listed in Table 3 of the regulatory text proposed herein for the significant new uses described in this document on or after April 10, 2006. EPA believes that this action is necessary because these chemical substances may be hazardous to human health and the environment. The required notice will provide EPA the opportunity to evaluate intended significant new uses and associated activities before they occur and, if necessary, to prohibit or limit those uses or activities.

DATES: Comments must be received on or before April 10, 2006.

ADDRESSES: Submit your comments, identified by docket identification (ID) number EPA-HQ-OPPT-2005-0015, by one of the following methods:

• http://www.regulations.gov. Follow the on-line instructions for submitting comments.

• E-mail: oppt.ncic@epa.gov.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID number EPA-HQ-OPPT-2005-0015. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2005-0015. EPA's policy is that all comments received will be included in the public docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, e.g., CBI or other information whose disclosure is restricted by statute. Certain other material, such as copyrighted material, is not placed on the Internet and will be publicly available only in hard copy form. Publicly available docket materials are available electronically through regulations.gov or in hard copy at the OPPT Docket, EPA Docket Center (EPA/DC), EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Amy Breedlove, Chemical Control Division (7405M), Office of Pollution Prevention and Toxics, Environmental Protection Agency, 1200 Pennsylvania Ave., NW., Washington, DC 20460-0001; telephone number: (202) 564-9823; e-mail address: breedlove.amy@epa.gov.

SUPPLEMENTARY INFORMATION:

I. General Information

A. Does this Action Apply to Me?

You may be potentially affected by this action if you manufacture (defined by statute to include import) any of the chemical substances that are listed in Table 3 in § 721.9582(a)(1) of the proposed regulatory text.

Persons who intend to import any chemical substance governed by a final SNUR are subject to the TSCA section 13 (15 U.S.C. 2612) import certification requirements, and to the regulations codified at 19 CFR 12.118 through 12.127 and 127.28. Those persons must certify that they are in compliance with the SNUR requirements. The EPA policy in support of import certification appears at 40 CFR part 707, subpart B. In addition, any persons who export or intend to export a chemical substance that is the subject of this proposed rule on or after April 10, 2006 are subject to the export notification provisions of TSCA section 12(b) (15 U.S.C. 2611(b)) (see 40 CFR 721.20), and must comply with the export notification requirements in 40 CFR part 707, subpart D. Potentially affected entities may include, but are not limited to:

• Manufacturers (defined by statute to include importers) of one or more of the subject chemical substances (NAICS 325 and 324110), e.g., chemical manufacturing and petroleum refineries.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in 40 CFR 721.5 and 40 CFR 721.9582 as proposed herein. Also consult Unit II. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date, and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns and suggested alternatives.

vii. Explain your views as clearly as possible, avoiding the use of profanity or personal threats.

viii. Make sure to submit your comments by the comment period deadline identified.

II. Background

A. What Action is the Agency Taking?

On October 18, 2000, EPA published in the Federal Register a proposed SNUR (65 FR 62319) (FRL-6745-5) (Ref. 1) to regulate the chemicals referred to as perfluorooctyl sulfonates (PFOS). The structure and definition of those chemicals affected by the proposed SNUR were described on page 62325, Unit IV.A. of that proposed rule. The corresponding final rule was published in the Federal Register on March 11, 2002 (67 FR 11008) (FRL-6823-6), for 13 perfluoroalkyl sulfonates (PFAS) chemicals (Ref. 2). In response to comments, EPA agreed to use the generic term perfluoroalkyl sulfonates (PFAS) to encompass more generally this category of perfluorinated compounds, which includes those with eight carbons (C8) as well as those with higher and lower amounts of carbon. The Agency also agreed to use the term PFOS to represent only those chemical substances that are predominantly C8. A supplemental proposed SNUR for 75 other similar PFAS chemicals was published in the Federal Register on March 11, 2002 (67 FR 11014) (FRL-6823-7) (Ref. 3). EPA promulgated a final rule for these 75 PFAS chemicals on December 9, 2002 (67 FR 72854) (FRL-7279-1) (Ref. 4). As used in this proposal, the term PFAS refers to a general category of perfluorinated sulfonate compounds and includes compounds of carbon chain lengths greater than four. The term PFOS refers to a subcategory of PFAS compounds that have an eight-carbon chain length.

EPA believed that those actions were necessary because data showed that certain alkyl chain lengths of the PFAS chemicals are toxic to human health, bioaccumulate, and are persistent in the environment. The December 9, 2002 final rule designated manufacture and import for any use of the specific PFAS chemicals listed in Tables 1 and 2 of 40 CFR 721.9582 as significant new uses with the following four exceptions for chemical substances in Table 2:

• Use as an anti-erosion additive in fire-resistant phosphate ester aviation hydraulic fluids.

• Use as a component of a photoresist substance, including a photo acid generator or surfactant, or as a component of an anti-reflective coating, used in a photomicrolithography process to produce semiconductors or similar components of electronic or other miniaturized devices.

• Use in coatings for surface tension, static discharge, and adhesion control for analog and digital imaging films, papers, and printing plates, or as a surfactant in mixtures used to process imaging films.

• Use as an intermediate only to produce other chemical substances to be used solely for the uses listed in exceptions 1 through 3.

EPA is proposing to add 183 PFAS chemicals to the SNUR at 40 CFR 721.9582. The 183 chemicals are listed in Table 3 which appears in the proposed regulatory text. EPA believes that this action is warranted given the similarity of these chemicals to those currently included in 40 CFR 721.9582 and the strong likelihood of similar health and environmental concerns, as discussed in Unit III.A. Specifically, the Agency is proposing to designate as a “significant new use” the manufacture, including import, for any use of the chemical substances listed in Table 3 of the proposed regulatory text; however, the Agency is also proposing to make the excepted uses described in 40 CFR 721.9582(a)(3) applicable to the chemicals listed in Table 3 of the proposed regulatory text. The listed chemical substances in Table 3 are on the TSCA Inventory and have carbon chains greater than, or equal to, C5 with the PFAS chemical structure. This action also includes those chemicals with ranges of carbon chains shorter than C5 but that extend beyond C5, for example, C4-C12. EPA specifically solicits comment on whether there is any ongoing manufacture or import of the chemicals subject to this proposed rule as well as information on any uses of such chemicals.

This proposed rule would require persons to notify EPA at least 90 days before commencing the manufacture (including import) of the chemical substances identified in Table 3 of the proposed regulatory text for the following significant new uses:

• The manufacture, including import, for any use of any of the chemicals listed in Table 3 of the proposed regulatory text.

• However, the manufacture or import of any chemical listed in Table 3 of the proposed regulatory text for one or more of the following specific uses shall not be considered as a significant new use subject to reporting:

1. Use as an anti-erosion additive in fire-resistant phosphate ester aviation hydraulic fluids.

2. Use as a component of a photoresist substance, including a photo acid generator or surfactant, or as a component of an anti-reflective coating, used in a photomicrolithography process to produce semiconductors or similar components of electronic or other miniaturized devices.

3. Use in coating for surface tension, static discharge, and adhesion control for analog and digital imaging films, papers, and printing plates, or as a surfactant in mixtures used to process imaging films.

4. Use as an intermediate only to produce other chemical substances to be used solely for the uses listed in 1., 2., or 3.

EPA is proposing to extend the exceptions to these chemicals due to the possibility that their use profiles are similar to those already covered in the SNUR. EPA is soliciting comment on whether the excepted uses are still necessary for the chemicals listed in Table 3 of the proposed regulatory text and depending on comments received may decide not to extend the exceptions in some or all cases. The original exceptions were granted based on limited volume of the uses, the extent of controls on exposure and releases, and the absence of viable alternatives.

B. What is the Agency's Authority for Taking this Action?

Section 5(a)(2) of TSCA (15 U.S.C. 2604(a)(2)) authorizes EPA to determine that a use of a chemical substance is a “significant new use.” EPA must make this determination by promulgating a rule after considering all relevant factors, including those listed in TSCA section 5(a)(2). These factors include the projected production volume of a chemical substance; the extent to which a use changes or increases the type, form, magnitude, or duration of exposure to the substance; and the reasonably anticipated manner of producing, processing, distributing, or disposing of the substance. EPA construes the statute to allow consideration of any other relevant factors, in addition to those listed in section 5(a)(2). Once EPA determines that a use of a chemical substance is a significant new use, and promulgates a SNUR, section 5(a)(1)(B) of TSCA requires persons to submit a Significant New Use Notice (SNUN) to EPA at least 90 days before they manufacture, import, or process the chemical substance for that use.

C. Applicability of General Provisions

General regulatory provisions for SNURs appear in 40 CFR part 721, subpart A. These provisions describe persons subject to the rule, recordkeeping requirements, and exemptions to reporting requirements. Provisions relating to user fees appear at 40 CFR part 700. Persons subject to the final SNUR must comply with many of the same notice requirements and EPA regulatory procedures as submitters of premanufacture notices (PMNs) under section 5(a)(1)(A) of TSCA. Those requirements include the information submission requirements of TSCA section 5(b) and 5(d)(1), the exemptions authorized by TSCA section 5(h)(1), (2), (3), and (5), and the regulations at 40 CFR part 720 (see 40 CFR 721.1(c)). Receipt of a SNUN by EPA may trigger regulatory action under TSCA sections 5(e), 5(f), 6, or 7, if appropriate, to control the activities described in the SNUN. If EPA does not take action after receipt of a SNUN, EPA is required under TSCA section 5(g) to explain in the Federal Register its reasons for not taking action.

Persons who intend to export a substance identified in a proposed or final SNUR are subject to the export notification provisions of TSCA section 12(b). The regulations that implement TSCA section 12(b) appear at 40 CFR part 707, subpart D. Persons who intend to import a chemical substance identified in a final SNUR are subject to the TSCA section 13 import certification requirements, which are codified at 19 CFR 12.118 through 12.127 and 127.28. Such persons must certify that they are in compliance with TSCA sections 5, 6, and 7 requirements. The EPA policy on import certification appears at 40 CFR part 707, subpart B.

III. Rationale for this Proposed Rule

A. What are the Environmental Characteristics of PFAS?

All of the chemical substances in Table 3 of the proposed regulatory text are referred to collectively in this proposed rule as perfluoroalkyl sulfonates, or PFAS. There is evidence that PFAS chemicals degrade back to perfluoroalkylsulfonic acid (PFASA), which exists in the anionic form in the environment, or to PFASA precursors. Further degradation of PFASA is not observed under normal environmental conditions. In fact, PFASA is highly persistent in the environment and has a tendency to bioaccumulate (Refs. 6 and 7). PFASA can continue to be formed by any PFAS containing chemicals introduced into the environment.

Studies have found PFAS chemicals containing five to fourteen carbons (C5-C14) in very small quantities in the blood of the general human population as well as in wildlife, indicating that exposure to the chemicals is widespread (Refs. 6, 7, and 8).

Biological sampling has discovered the presence of certain perfluoroalkyl compounds in fish and in fish-eating birds across the United States and in locations in Canada, Sweden, and the South Pacific (Ref. 6). The wide distribution of the chemicals in high trophic levels is strongly suggestive of the potential for bioaccumulation and/or bioconcentration.

Based on currently available information, EPA believes that while all PFAS chemicals are expected to persist, the length of the perfluorinated chain may also have an effect on bioaccumulation and toxicity, which are also characteristics of concern for these chemicals. PFAS chemicals with longer carbon chain lengths may be of greater concern than those with shorter chain lengths (Refs. 9, 10, and 11).

B. What are the Health Effects of PFAS?

The hazard assessment published by the Organization for Economic Cooperation and Development (OECD) (Ref. 15) concluded that PFOS is persistent, bioaccumulative and toxic to mammalian species. While most studies to date have focused primarily on PFOS (with eight carbons (C8)), structure-activity relationship analysis indicates that the results of those studies are applicable to the category of PFAS chemicals, which includes PFOS. Available test data have raised concerns about their potential developmental, reproductive, and systemic toxicity (Refs. 6, 7, and 8).

Toxicology studies show that PFOS, as measured in its anionic form, is well absorbed orally and distributes primarily to the serum and liver. It does not appear to be further metabolized. Elimination from the body is slow and occurs via both urine and feces. Serum PFOS levels in three retired male 3M Company chemical workers have been tracked and suggest a mean elimination half-life in humans of approximately 4 years (Ref. 8). Epidemiologic studies have shown an association between PFOS exposure and the incidence of bladder cancer, although further work is needed (Ref. 15).

Studies on PFOS generally indicate moderate toxicity to environmental species (fish, aquatic plants and invertebrates, amphibians and birds), although in the case of honey bees, high toxicity was observed (Ref. 15).

C. What are the Uses and Production Levels of these Chemicals?

The Agency believes that the 183 PFAS chemicals included in this proposal are no longer being manufactured for any uses in the United States, except possibly for excepted uses under 40 CFR 721.9582(a)(3). As mentioned in Unit II.A., EPA is soliciting comment on the need for the excepted uses for the chemicals listed in Table 3 of the proposed regulatory text. 3M Company, the principal domestic manufacturer of PFAS chemicals, has publicly committed to using perfluorobutane sulfonate (PFBS) (a four carbon (C4) based PFAS) instead of PFOS or other PFAS chemicals in its products (Ref. 5). The Agency has no indication that the PFAS chemicals covered by this proposal are in commercial production for any use; however, there could be instances where these chemicals are produced in amounts that fall below any reporting thresholds, e.g., under the Inventory Update Rule at 40 CFR part 710, and therefore EPA would be unaware of their production.

PFOS and related sulfonyl-based fluorochemicals, which are a subset of the overall PFAS category of chemicals and are included in 40 CFR 721.9582, were used in a variety of products, which can be divided into three main use categories: surface treatments, paper protection, and performance chemicals (Ref. 12). In the past, PFAS chemicals in the performance chemicals category were used in a wide variety of specialized industrial, commercial, and consumer applications. Specific applications included fire fighting foams, mining and oil well surfactants, acid mist suppressants for metal plating and electronic etching baths, alkaline cleaners, floor polishes, inks, photographic film, denture cleaners, shampoos, chemical intermediates, coating additives, carpet spot cleaners, and as an insecticide in bait stations for ants (Ref. 12). In 2000, the domestic production volume of the PFAS chemicals containing eight carbons (C8) for the performance chemicals use category was estimated to be approximately 1.5 million pounds (Ref. 13).

The 3M Company discontinued manufacture of some specific PFAS and related chemicals as of 2002. The Agency is aware that PFAS and PFAS-related chemicals have been produced by and/or imported from companies located in countries outside of the United States, including Italy, Belgium, Germany, Norway, Poland, and Switzerland, among others, and that many other companies have sold PFAS-related products (Ref. 14). The Agency is not aware of any uses or imports in the United States of the remaining PFAS chemicals on the Inventory. Comments generated by this document will enable EPA to determine if any remaining uses exist.

D. Why is EPA Taking this Action?

EPA believes that the manufacture or import for any use of the PFAS chemicals listed in Table 3 of the proposed regulatory text occurring after the 3M Company's global phase-out dates would significantly increase the magnitude and duration of exposure to humans and the environment to these chemicals. Given the similarity of the chemicals in this proposal to the PFAS chemicals covered under 40 CFR 721.9582 and the health and environmental concerns described in this unit, EPA believes that action on these PFAS chemicals is warranted.

IV. Determining a Significant New Use

Section 5(a)(2) of TSCA requires that EPA's determination that a use of a chemical substance is a significant new use must be made after consideration of all relevant factors including:

• The projected volume of manufacturing and processing of a chemical substance.

• The extent to which a use changes the type or form of exposure of human beings or the environment to a chemical substance.

• The extent to which a use increases the magnitude and duration of exposure of human beings or the environment to a chemical substance.

• The reasonably anticipated manner and methods of manufacturing, processing, distribution in commerce, and disposal of a chemical substance.

EPA construes the statute to allow consideration of any other relevant factors, in addition to those enumerated in section 5(a)(2)(A) through (D).

To determine what would constitute a significant new use of the PFAS chemicals listed in Table 3 of the proposed regulatory text, EPA considered relevant information about the toxicity, exposure, and environmental effects of the substances as well as the four factors listed in section 5(a)(2) of TSCA.

As described in Unit III., EPA has concerns regarding the reproductive and subchronic toxicity, persistence, and bioaccumulative potential of the chemical substances that are included in this proposed SNUR. Any use of these PFAS chemicals would continue to add to the reservoir of PFASA in the environment, resulting in additional human/animal exposure.

Furthermore, the specific perfluoroalkylsulfonyl fluoride (PASF) precursors required to manufacture the PFAS chemicals included in this proposal are no longer being manufactured and 3M Company, the principal U.S. manufacturer of PFAS chemicals, has committed to using perfluorobutane sulfonate (PFBS) (a four carbon (C4) based PFAS). The Agency is also not aware of any uses or imports in the United States of the PFAS chemicals included in this proposal.

Available information indicates that there is no ongoing manufacture, import, or use of these PFAS chemicals in the United States. Therefore, any manufacture, import, or use of these chemicals, apart from the excepted uses, if determined to be ongoing based on comments received on this proposed rule or other information, would be considered a significant new use.

Considering EPA's concerns about the toxicity and bioaccumulation potential of the chemicals, EPA believes that individuals and the environment could suffer adverse effects from their use. Since indications are that manufacturing and importing have ceased, with the possible exception of the four excepted uses, EPA believes that any new manufacture, import, or use of these chemicals would significantly increase the production volume and the magnitude and duration of exposure of human beings and the environment to these chemical substances. Consequently, EPA wants the opportunity to evaluate and control, if appropriate, exposures associated with those activities.

Based on these considerations, EPA is pursuing the following objectives with regard to the use of the chemicals listed in Table 3 of the proposed regulatory text:

• EPA wants to ensure that it would receive notice of any person's intent to manufacture or import the listed chemicals for any designated new use before that activity begins.

• EPA wants to ensure that it would have the opportunity to review and evaluate data submitted in a SNUN before the notice submitter begins manufacturing or importing the chemicals for any designated new use.

• The required notice will provide EPA the opportunity to evaluate intended significant new uses and associated activities before they occur and, if necessary, to prohibit or limit those activities.

V. Test Data and Other Information

EPA recognizes that section 5 of TSCA does not require the development of any particular test data before submission of a SNUN. Persons are required only to submit test data in their possession or control and to describe any other data known to or reasonably ascertainable by them (15 U.S.C. 2604(d); 40 CFR 721.25).

SNUN submitters should be aware that EPA will be better able to evaluate SNUNs that provide detailed information on:

• Human exposure and environmental releases that may result from the significant new use of the chemical substance.

• Potential benefits of the chemical substance.

• Information on hazards and risks posed by the chemical substance relative to hazards and risks posed by potential substitutes.

Submitters should consider including with a SNUN any other available studies on the chemical substances or studies on analogous substances that may demonstrate that the significant new uses being reported are unlikely to present an unreasonable risk.

In view of the potential risks posed by these chemicals, potential SNUN submitters should include data that would permit a reasoned evaluation of risks posed by these chemicals. EPA encourages persons to consult with the Agency before submitting a SNUN for these substances. As part of this optional pre-notice consultation, EPA would discuss specific data it believes would be useful in evaluating a significant new use. A SNUN submitted without sufficient data to reasonably evaluate risks posed by a significant new use of one of the listed chemicals may increase the likelihood that EPA will take action under TSCA section 5(e) to prohibit or limit activities associated with these chemicals.

VI. SNUN Submissions

SNUNs should be mailed to the Environmental Protection Agency, OPPT Document Control Office (7407M), 1200 Pennsylvania Ave., NW., Washington, DC 20460-0001. Information must be submitted in the form and manner set forth in EPA Form No. 7710-25. This form is available from the Environmental Assistance Division (7408M), OPPT, Environmental Protection Agency, 1200 Pennsylvania Ave., NW., Washington, DC 20460-0001 (see 40 CFR 721.25(a) and 720.40(a)(2)(i)).

VII. Alternatives

Before proposing this SNUR, EPA considered promulgating a TSCA section 8(a) reporting rule for the listed chemicals. Under such a rule, EPA could generally require any person to report information to the Agency when they intend to manufacture, import, or process a listed chemical. However, in the case of these particular substances, the use of TSCA section 8(a) rather than SNUR authority would have several drawbacks. First, EPA would not be able to take immediate follow-up regulatory action under TSCA sections 5(e) or 5(f) to prohibit or limit the activity before it begins. In addition, EPA may not receive important information from small businesses, because such firms generally are exempt from TSCA section 8(a) reporting requirements. In view of the level of health and environmental concerns about the chemicals listed in Table 3 of the proposed regulatory text, EPA believes that a TSCA section 8(a) rule for these substances would not meet EPA's regulatory objectives.

VIII. Applicability of Proposed Rule to Uses Occurring Before Effective Date of the Final Rule

As discussed in the Federal Register of April 24, 1990 (55 FR 17376), EPA believes that the intent of TSCA section 5(a)(1)(B) is best served by designating a use as a “significant new use” as of the proposal date of the SNUR, rather than as of the effective date of the final rule. If uses begun after publication of the proposed SNUR were considered to be ongoing rather than new, it would be difficult for EPA to establish notification requirements, because any person could defeat the SNUR by initiating the proposed significant new use before the proposed rule became final.

Any person who begins commercial manufacture or import for any use of any of the chemical substances listed in Table 3 of the proposed regulatory text after publication of this proposed SNUR must stop such activity before the effective date of the final rule. All persons will have to meet all SNUR notice requirements and wait until the end of the notice review period, including all extensions, before engaging in any activities designated as significant new uses. If, however, persons who begin commercial manufacture or import of any of the chemical substances listed in Table 3 of the proposed regulatory text between the proposal and the effective date of the final SNUR meet the conditions of advance compliance as codified at 40 CFR 721.45(h), those persons would be considered to have met the requirements of the final SNUR for those activities.

IX. Issue for Comment

EPA is especially interested in comments on whether there is any current manufacture or import of any of the chemicals listed in Table 3 of the proposed regulatory text, including for the uses that would be excepted as proposed in accordance with 40 CFR 721.9582(a)(2)(iii). The Agency is not aware of any uses or imports in the United States of the remaining PFAS chemicals on the Inventory. Comments generated by this document will enable EPA to determine if any remaining uses exist, and therefore the need for the proposed, or other, exemptions, based on manufacture or import for an ongoing use.

X. Economic Analysis

EPA has evaluated the potential costs of establishing SNUR reporting requirements for potential manufacturers, including importers, of the chemical substances who would be subject to the final rule. While there is no precise way to calculate the total annual cost of compliance with the final rule, EPA estimates that the reporting cost for submitting a SNUN is $7,267, including a $2,500 user fee (Ref. 16). EPA believes that there will be few, if any, SNUNs submitted. EPA's complete economic analysis is available in the public docket for this proposed rule (Ref. 16).

Under section 12(b) of TSCA, exporters must notify EPA if they export or intend to export a chemical substance or mixture for which, among other things, a rule has been proposed or promulgated under TSCA section 5. Notice must be provided for the first export or intended export to a particular country in a calendar year. In an economic analysis of an amendment to the rules implementing TSCA section 12(b), EPA estimated that the one-time cost of preparing and submitting an export notification was $62.60 in 1992, or $93.02 when inflated to 2003 dollars by a factor of approximately 1.5, from the Employment Cost Index for White Collar Occupations. The total costs of export notification will vary by chemical, depending on the number of required notifications (i.e., the number of countries to which the chemical is exported). EPA is unable to make any estimate of the likely number of export notifications for chemicals covered in this SNUR (Ref. 16).

XI. References

The public docket for this action, EPA-HQ-OPPT-2005-0015, currently includes the following documents:

1. USEPA. “Perfluorooctyl Sulfonates; Proposed Significant New Use Rule.” 65 FR 62319, October 11, 2000.

2. USEPA. “Perfluoroalkyl Sulfonates; Significant New Use Rule, Final Rule.” 67 FR 11008, March 11, 2002.

3. USEPA. “Perfluoroalkyl Sulfonates; Proposed Significant New Use Rule, Supplemental proposed rule.” 67 FR 11014, March 11, 2002.

4. USEPA. “Perfluoroalkyl Sulfonates; Significant New Use Rule, Final Rule.” 67 FR 72854, December 9, 2002.

5. 3M Company. Technical Data Bulletin: Environmental, Health, Safety, and Regulatory (EHSR) Profile of Perfluorobutane Sulfonate (PFBS), July 2002.

6. 3M Company. Sulfonated Perfluorochemicals in the Environment: Sources, Dispersion, Fate, and Effects. St. Paul, Minnesota, March 1, 2000.

7. 3M Company. The Science of Organic Fluorochemistry. St. Paul, Minnesota, February 5, 1999.

8. 3M Company. Perfluorooctane Sulfonate: Current Summary of Human Sera, Health and Toxicology Data. St. Paul, Minnesota, January 21, 1999.

9. Kudo, Naomi, et.al. “Comparison of the Elimination Between Perfluorinated Fatty Acids with Different Carbon Chain Lengths in Rats.” Chemico-Biological Interactions. Volume 134(2), 2001, pp. 203-216.

10. Goeke-Flora, Carol M. and Nicholas V. Reo. “Influence of Carbon Chain Length on the Hepatic Effects of Perfluorinated Fatty Acids, A¹⁹ F- and ³¹P-NMR Investigation.” Chemical Research in Toxicology, 9(4), 1996, pp. 689-695.

11. Dixon, David A. “Fluorochemical Decomposition Processes,” Theory, Modeling, and Simulation, William R. Wiley Environmental Molecular Sciences Laboratory, Pacific Northwest National Laboratory, Richland Washington, April 4, 2001.

12. 3M Company. Fluorochemical Use, Distribution, and Release Overview. St. Paul, Minnesota, May 26, 1999.

13. Weppner, William A., 3M Company. Phase-Out Plan for POSF-Based Products, St. Paul, Minnesota, July 7, 2000.

14. Organization for Economic Cooperation and Development (OECD), Environment Directorate. Results of Survey on Production and Use of PFOS, PFAS and PFOA-Related Substances and Products/Mixtures Containing these Substances. ENV/JM/MONO(2005)1. January 13, 2005, pp. 33-45.

15. Organization for Economic Cooperation and Development (OECD), Environment Directorate. “Hazard Assessment of Perfluorooctane Sulfonate (PFOS) and its Salts,” ENV/JM/RD(2002)17/FINAL, November, 21, 2002.

16. USEPA. “Economic Analysis of the Proposed Significant New Use Rule for 183 Perfluoroalkyl Sulfonates.” Washington, DC: U.S. EPA/OPPT/EETD/EPAB, November 3, 2005.

XII. Statutory and Executive Order Reviews

A. Executive Order 12866: Regulatory Planning and Review

Under Executive Order 12866, entitled Regulatory Planning and Review (58 FR 51735, October 4, 1993), the Office of Management and Budget (OMB) has determined that this proposed SNUR is not a “significant regulatory action” because this rule does not meet the criteria in section 3(f) of the Executive Order.

B. Paperwork Reduction Act

According to the Paperwork Reduction Act (PRA), 44 U.S.C. 3501 et seq., an Agency may not conduct or sponsor, and a person is not required to respond to a collection of information that requires OMB approval under the PRA, unless it has been approved by OMB and displays a currently valid OMB control number. The OMB control numbers for EPA's regulations in title 40 of the CFR, after appearing in the Federal Register, are listed in 40 CFR part 9, and included on the related collection instrument or form, if applicable.

The information collection requirements related to this action have already been approved by OMB pursuant to the PRA under OMB control number 2070-0038 (EPA ICR No. 1188). This action does not impose any burden requiring additional OMB approval. The burden for submitting a SNUN is estimated to average 107 hours per submission. This burden estimate includes the time needed to review instructions, search existing data sources, gather and maintain the data needed, and complete, review, and submit the required SNUN.

Send any comments about the accuracy of the burden estimate, and any suggested methods for minimizing respondent burden, including through the use of automated collection techniques, to the Director, Collection Strategies Division, Office of Environmental Information (2822T), Environmental Protection Agency, 1200 Pennsylvania Ave., NW., Washington, DC 20460-0001. Please remember to include the OMB control number in any correspondence, but do not submit any completed forms to this address.

C. Regulatory Flexibility Act

Pursuant to section 605(b) of the Regulatory Flexibility Act (RFA) (5 U.S.C. 601 et seq.), the Agency hereby certifies that promulgation of this SNUR would not have a significant adverse economic impact on a substantial number of small entities. The rationale supporting this conclusion is as follows. A SNUR applies to any person (including small or large entities) who intends to engage in any activity described in the rule as a “significant new use.” By definition of the word “new,” and based on all information currently available to EPA, it appears that no small or large entities presently engage in such activity. Because a SNUR requires only that any person who intends to engage in such activity in the future must first notify EPA by submitting a SNUN, no economic impact would even occur until someone decides to engage in those activities. Although some small entities may decide to conduct such activities in the future, EPA cannot presently determine how many, if any, there may be. However, EPA's experience to date is that, in response to the promulgation of over 1,000 SNURs, the Agency receives on average only 10 SNUNs per year. Of those SNUNs submitted, none appear to be from small entities in response to any SNUR. In addition, the estimated reporting cost for submission of a SNUN (see Unit X.), are minimal regardless of the size of the firm. Therefore, EPA believes that the potential economic impact of complying with this SNUR is not expected to be significant nor adversely impact a substantial number of small entities. In a SNUR that published on June 2, 1997 (62 FR 29684) (FRL-5597-1), the Agency presented its general determination that proposed and final SNURs are not expected to have a significant economic impact on a substantial number of small entities, which was provided to the Chief Counsel for Advocacy of the Small Business Administration.

D. Unfunded Mandates Reform Act

Based on EPA's experience with proposing and finalizing SNURs, State, local, and Tribal governments have not been impacted by these rulemakings, and EPA does not have any reason to believe that any State, local, or Tribal government would be impacted by this rulemaking. As such, EPA has determined that this regulatory action would not impose any enforceable duty, contain any unfunded mandate, or otherwise have any affect on small governments subject to the requirements of sections 202, 203, 204, or 205 of the Unfunded Mandates Reform Act of 1995 (UMRA) (Public Law 104-4).

E. Executive Order 13132: Federalism

This action would not have a substantial direct effect on States, on the relationship between the national government and the States, or on the distribution of power and responsibilities among the various levels of government, as specified in Executive Order 13132, entitled Federalism (64 FR 43255, August 10, 1999).

F. Executive Order 13175: Consultation and Coordination with Indian Tribal Governments

This proposed rule would not have Tribal implications because it is not expected to have substantial direct effects on Indian Tribes. This proposed rule would not significantly or uniquely affect the communities of Indian Tribal governments, nor would it involve or impose any requirements that affect Indian Tribes. Accordingly, the requirements of Executive Order 13175, entitled Consultation and Coordination with Indian Tribal Governments (65 FR 67249, November 6, 2000), do not apply to this proposed rule.

G. Executive Order 13045: Protection of Children from Environmental Health Risks and Safety Risks

This action is not subject to Executive Order 13045, entitled Protection of Children from Environmental Health Risks and Safety Risks (62 FR 19885, April 23, 1997), because this is not an economically significant regulatory action as defined by Executive Order 12866, and this action does not address environmental health or safety risks disproportionately affecting children.

H. Executive Order 13211: Actions that Significantly Affect Energy Supply, Distribution, or Use

This proposed rule is not subject to Executive Order 13211, entitled Actions Concerning Regulations That Significantly Affect Energy Supply, Distribution, or Use (66 FR 28355, May 22, 2001), because this action is not expected to affect energy supply, distribution, or use.

I. National Technology Transfer Advancement Act

In addition, since this action does not involve any technical standards, section 12(d) of the National Technology Transfer and Advancement Act of 1995 (NTTAA), Public Law 104-113, section 12(d) (15 U.S.C. 272 note), does not apply to this action.

J. Executive Order 12898: Federal Actions to Address Environmental Justice in Minority Populations and Low-Income Populations

This action does not entail special considerations of environmental justice related issues as delineated by Executive Order 12898, entitled Federal Actions to Address Environmental Justice in Minority Populations and Low-Income Populations (59 FR 7629, February 16, 1994).

K. Executive Order 12988: Civil Justice Reform

In issuing this proposed rule, EPA has taken the necessary steps to eliminate drafting errors and ambiguity, minimize potential litigation, and provide a clear legal standard for affected conduct, as required by section 3 of Executive Order 12988, entitled Civil Justice Reform (61 FR 4729, February 7, 1996).

List of Subjects in 40 CFR Part 721

Environmental protection, Chemicals, Hazardous substances, Reporting and recordkeeping requirements.

Dated: February 28, 2006.
Charles M. Auer,
Director, Office of Pollution Prevention and Toxics.

Therefore, it is proposed that 40 CFR part 721 be amended as follows:

PART 721—[AMENDED]

1. The authority citation for part 721 would continue to read as follows:

Authority: 15 U.S.C. 2604, 2607, and 2625(c).

2. Section 721.9582 is amended as follows:

a. By revising the text of paragraph (a)(1).

b. By adding a Table 3 to paragraph (a)(1).

c. By revising paragraphs (a)(2) and (a)(3).

§ 721.9582 Certain perfluoroalkyl sulfonates.

(a) Chemical substances and significant new uses subject to reporting. (1) The chemical substances listed in Table 1, Table 2, and Table 3 of this section are subject to reporting under this section for the significant new uses described in paragraph (a)(2) of this section.

* * * * *

Table 3—PFAS Chemicals Subject to Reporting on or After April 10, 2006
CAS No. | CAS Ninth Collective Index Name | C No.
179005-06-2 | Sulfonamides, C4-8-alkane, perfluoro, N-[3-(dimethyloxidoamino)propyl], potassium salts | C4-C8
148240-81-7 | Fatty acids, C18-unsatd., trimers, 2-[methyl[(undecafluoropentyl)sulfonyl]amino]ethyl esters | C5
95590-48-0 | 2-Propenoic acid, 2-methyl-, 3-(trimethoxysilyl)propyl ester, polymer with ethenylbenzene, 2-[ethyl[(heptadecafluorooctyl)sulfonyl]amino]ethyl 2-propenoate and 2-hydroxyethyl 2-propenoate | C8
73772-34-6 | 1-Hexanesulfonamide, N-[3-(dimethylamino)propyl]-1,1,2,2,3,3,4,4,5,5,6,6,6-tridecafluoro-N-[2-[2-(2- hydroxyethoxy)ethoxy]ethyl]- | C6
73772-33-5 | 1-Hexanesulfonamide, N-[3-(dimethylamino)propyl]-1,1,2,2,3,3,4,4,5,5,6,6,6-tridecafluoro-, monoacetate | C6
73275-59-9 | 2-Propenoic acid, 2-[[(heptadecafluorooctyl)sulfonyl]propylamino]ethyl ester, polymer with a-(2-methyl-1-oxo-2-propenyl)-w-butoxypoly[oxy(methyl-1,2-ethanediyl)] | C8
73038-33-2 | 2-Propenoic acid, 2-[[(heptadecafluorooctyl)sulfonyl]propylamino]ethyl ester, polymer with methyloxirane polymer with oxirane mono(2-methyl-2-propenoate) | C8
73019-28-0 | 2-Propenoic acid, 2-[[(heptadecafluorooctyl)sulfonyl]propylamino]ethyl ester, polymer with a-(2-methyl-1-oxo-2-propenyl)-w-methoxypoly(oxy-1,2-ethanediyl) (9CI) | C8
73019-20-2 | 1,3-Benzenedicarboxamide, N3-[2-[[(heptadecafluorooctyl)sulfonyl]methylamino]ethyl]-N1-[2-[[(heptadecafluorooctyl)sulfonyl]propylamino]ethyl]-4-methyl- | C8
73019-19-9 | Benzamide, 4-[[4-[[[2-[[(heptadecafluorooctyl)sulfonyl]propylamino]ethyl]amino]carbonyl]phenyl]methyl]-N-octadecyl- | C8
73018-93-6 | 2-Propenoic acid, 2-methyl-, 2-ethylhexyl ester, polymer with 2-[[(heptadecafluorooctyl)sulfonyl]methylamino]ethyl 2-propenoate | C8
72785-08-1 | 1-Propanesulfonic acid, 3-[[3-(dimethylamino)propyl][(heptadecafluorooctyl)sulfonyl]amino]- | C8
71463-81-5 | Phosphonic acid, [3-[ethyl[(pentadecafluoroheptyl)sulfonyl]amino]propyl]-, diethyl ester | C7
71463-80-4 | Phosphonic acid, [3-[ethyl[(heptadecafluorooctyl)sulfonyl]amino]propyl]-, diethyl ester | C8
71463-79-1 | Phosphonic acid, [3-[ethyl[(pentadecafluoroheptyl)sulfonyl]amino]propyl]- | C7
71463-78-0 | Phosphonic acid, [3-[ethyl[(heptadecafluorooctyl)sulfonyl]amino]propyl]- | C8
71463-74-6 | 1-Octanesulfonic acid, 1,1,2,2,3,3,4,4,5,5,6,6,7,7,8,8,8-heptadecafluoro-, compd. with piperidine (1:1) | C8
70900-40-2 | 2-Propenoic acid, 2-methyl-, 2-[[[[5-[[[4-[[(heptadecafluorooctyl)sulfonyl]methylamino]butoxy]carbonyl]amino]-2-methylphenyl]amino]carbonyl]oxy]propyl ester, telomer with butyl 2-propenoate, 2-[[(heptadecafluorooctyl)sulfonyl]methylamino]ethyl 2-propenoate, | C4-C8
70248-52-1 | 1-Propanaminium, N,N,N-trimethyl-3-[[(tridecafluorohexyl)sulfonyl]amino]-, sulfate (2:1) | C6
70225-26-2 | 1-Propanaminium, 3-[[(heptadecafluorooctyl)sulfonyl]amino]-N,N,N- trimethyl-, sulfate (2:1) | C8
70225-24-0 | 1-Propanaminium, N,N,N-trimethyl-3-[[(undecafluoropentyl)sulfonyl]amino]-, sulfate (2:1) | C5
70225-20-6 | 1-Propanaminium, N,N,N-trimethyl-3-[[(pentadecafluoroheptyl)sulfonyl]amino]-, sulfate (2:1) | C7
70225-17-1 | 1-Pentanesulfonic acid, 1,1,2,2,3,3,4,4,5,5,5-undecafluoro-, compd. with 2,2'-iminobis[ethanol] (1:1) | C5
70225-16-0 | 1-Hexanesulfonic acid, 1,1,2,2,3,3,4,4,5,5,6,6,6-tridecafluoro-, compd. with 2,2'-iminobis[ethanol] (1:1) | C6
70225-15-9 | 1-Heptanesulfonic acid, 1,1,2,2,3,3,4,4,5,5,6,6,7,7,7-pentadecafluoro-, compd. with 2,2'-iminobis[ethanol] (1:1) | C7
68958-60-1 | Poly(oxy-1,2-ethanediyl), alpha-[2-[ethyl[(pentadecafluoroheptyl)sulfonyl]amino]ethyl]-omega-methoxy- | C7
68957-63-1 | Glycine, N-ethyl-N-[(pentadecafluoroheptyl)sulfonyl]- | C7
68957-62-0 | 1-Heptanesulfonamide, N-ethyl-1,1,2,2,3,3,4,4,5,5,6,6,7,7,7-pentadecafluoro- | C7
68957-61-9 | 1-Hexanesulfonamide, N-[3-(dimethylamino)propyl]-1,1,2,2,3,3,4,4,5,5,6,6,6-tridecafluoro-, monohydrochloride | C6
68957-60-8 | 1-Pentanesulfonamide, N-[3-(dimethylamino)propyl]-1,1,2,2,3,3,4,4,5,5,5-undecafluoro-, monohydrochloride | C5
68957-58-4 | 1-Propanaminium, N,N,N-trimethyl-3-[[(tridecafluorohexyl)sulfonyl]amino]-, iodide | C6
68957-57-3 | 1-Propanaminium, N,N,N-trimethyl-3-[[(undecafluoropentyl)sulfonyl]amino]-, iodide | C5
68957-55-1 | 1-Propanaminium, N,N,N-trimethyl-3-[[(undecafluoropentyl)sulfonyl]amino]-, chloride | C5
68957-54-0 | Glycine, N-ethyl-N-[(pentadecafluoroheptyl)sulfonyl]-, ethyl ester | C7
68957-53-9 | Glycine, N-ethyl-N-[(tridecafluorohexyl)sulfonyl]-, ethyl ester | C6
68957-32-4 | Glycine, N-ethyl-N-[(tridecafluorohexyl)sulfonyl]- | C6
68957-31-3 | Glycine, N-ethyl-N-[(undecafluoropentyl)sulfonyl]- | C5
68891-99-6 | Chromium, diaquatetrachloro[mu-[N-ethyl-N-[(undecafluoropentyl)sulfonyl]glycinato-kO:kO']]-mu-hydroxybis(2-propanol)di- | C5
68891-98-5 | Chromium, diaquatetrachloro[mu-[N-ethyl-N-[(tridecafluorohexyl)sulfonyl]glycinato-kO:kO']]-mu-hydroxybis(2-propanol)di- | C6
68891-97-4 | Chromium, diaquatetrachloro[mu-[N-ethyl-N-[(pentadecafluoroheptyl)sulfonyl]glycinato-kO:kO']]-mu-hydroxybis(2-propanol)- | C7
68877-32-7 | 2-Propenoic acid, 2-methyl-, 2-[ethyl[(heptadecafluorooctyl)sulfonyl]amino]ethyl ester, polymer with 2-[ethyl[(nonafluorobutyl)sulfonyl]amino]ethyl 2-methyl-2-propenoate, 2-[ethyl[(pentadecafluoroheptyl)sulfonyl]amino]ethyl 2-methyl-2-propenoate, 2-[ | C4-C8
68815-72-5 | Benzoic acid, 2,3,4,5-tetrachloro-6-[[[3- [[(tridecafluorohexyl)sulfonyl]oxy]phenyl]amino]carbonyl]-, monopotassium salt | C6
68797-76-2 | 2-Propenoic acid, 2-methyl-, 2-ethylhexyl ester, polymer with 2-[[(heptadecafluorooctyl)sulfonyl]methylamino]ethyl 2-propenoate, 2-[methyl[(nonafluorobutyl)sulfonyl]amino]ethyl 2-propenoate, 2-[methyl[(pentadecafluoroheptyl)sulfonyl]amino]ethyl 2-pr | C4-C8
68608-13-9 | Sulfonamides, C4-8-alkane, perfluoro, N-ethyl-N-(hydroxyethyl), reaction products with TDI | C4-C8
68568-77-4 | 2-Propenoic acid, 2-methyl-, 2-[ethyl[(heptadecafluorooctyl)sulfonyl]amino]ethyl ester, polymer with 2-chloro-1,3-butadiene, 2-[ethyl[(nonafluorobutyl)sulfonyl]amino]ethyl 2-methyl-2-propenoate, 2-[ethyl[(pentadecafluoroheptyl)sulfonyl]amino]ethyl 2 | C4-C8
68555-81-7 | 1-Propanaminium, N,N,N-trimethyl-3-[[(pentadecafluoroheptyl)sulfonyl]amino]-, chloride | C7
68555-79-3 | Glycine, N-ethyl-N-[(undecafluoropentyl)sulfonyl]-, ethyl ester | C5
68555-78-2 | 1-Pentanesulfonamide, N-[3-(dimethylamino)propyl]-1,1,2,2,3,3,4,4,5,5,5-undecafluoro- | C5
68555-76-0 | 1-Heptanesulfonamide, 1,1,2,2,3,3,4,4,5,5,6,6,7,7,7-pentadecafluoro-N-(2-hydroxyethyl)-N-methyl- | C7
68555-75-9 | 1-Hexanesulfonamide, 1,1,2,2,3,3,4,4,5,5,6,6,6-tridecafluoro-N-(2-hydroxyethyl)-N-methyl- | C6
68555-74-8 | 1-Pentanesulfonamide, 1,1,2,2,3,3,4,4,5,5,5-undecafluoro-N-(2-hydroxyethyl)-N-methyl- | C5
68555-73-7 | 1-Heptanesulfonamide, N-ethyl-1,1,2,2,3,3,4,4,5,5,6,6,7,7,7-pentadecafluoro-N-(2-hydroxyethyl)- | C7
68555-72-6 | 1-Pentanesulfonamide, N-ethyl-1,1,2,2,3,3,4,4,5,5,5-undecafluoro-N-(2-hydroxyethyl)- | C5
68555-71-5 | Glycine, N-ethyl-N-[(pentadecafluoroheptyl)sulfonyl]-, sodium salt | C7
68555-70-4 | Glycine, N-ethyl-N-[(tridecafluorohexyl)sulfonyl]-, sodium salt | C6
68555-69-1 | Glycine, N-ethyl-N-[(undecafluoropentyl)sulfonyl]-, sodium salt | C5
68541-02-6 | Benzoic acid, 2,3,4,5-tetrachloro-6-[[[3-[[(undecafluoropentyl)sulfonyl]oxy]phenyl]amino]carbonyl]-, monopotassium salt | C5
68541-01-5 | Benzoic acid, 2,3,4,5-tetrachloro-6-[[[3-[[(pentadecafluoroheptyl)sulfonyl]oxy]phenyl]amino]carbonyl]-, monopotassium salt | C7
68391-09-3 | Sulfonic acids, C6-12-alkane, perfluoro, potassium salts | C6-C12
68318-36-5 | 1-Propanaminium, 3-[(carboxymethyl)[(heptadecafluorooctyl)sulfonyl]amino]-N,N,N-trimethyl-, inner salt | C8
68318-34-3 | Cyclohexanesulfonyl fluoride, decafluoro(trifluoromethyl)- | C7
68310-75-8 | 1-Propanaminium, 3-[[(heptadecafluorooctyl)sulfonyl]amino]-N,N,N-trimethyl-, iodide, ammonium salt | C8
68310-17-8 | Poly[oxy(methyl-1,2-ethanediyl)], alpha-[2-[ethyl[(undecafluoropentyl)sulfonyl]amino]ethyl]-omega-hydroxy- | C5
68310-02-1 | 1-Heptanesulfonamide, N-butyl-1,1,2,2,3,3,4,4,5,5,6,6,7,7,7-pentadecafluoro-N-(2-hydroxyethyl)- | C7
68299-39-8 | 2-Propenoic acid, 2-methyl-, 4-[[(heptadecafluorooctyl)sulfonyl]methylamino]butyl ester, telomer with butyl 2-propenoate, 2-[[(heptadecafluorooctyl)sulfonyl]methylamino]ethyl 2-propenoate, 4-[methyl[(nonafluorobutyl)sulfonyl] amino]butyl 2-methyl-2-p | C4-C8
68299-29-6 | Benzenesulfonic acid, ar-[[[(pentadecafluoroheptyl)sulfonyl]amino]methyl]-, monosodium salt | C7
68299-21-8 | Benzenesulfonic acid, [[[(tridecafluorohexyl)sulfonyl]amino]methyl]-, monosodium salt | C6
68299-20-7 | Benzenesulfonic acid, [[[(undecafluoropentyl)sulfonyl]amino]methyl]-, monosodium salt | C5
68298-89-5 | 1-Heptanesulfonamide, 1,1,2,2,3,3,4,4,5,5,6,6,7,7,7-pentadecafluoro-N-(4-hydroxybutyl)-N-methyl- | C7
68298-81-7 | Poly(oxy-1,2-ethanediyl), alpha-[2-[ethyl[(pentadecafluoroheptyl)sulfonyl]amino]ethyl]-omega-hydroxy- | C7
68298-80-6 | Poly(oxy-1,2-ethanediyl), alpha-[2-[ethyl[(undecafluoropentyl)sulfonyl]amino]ethyl]-omega-hydroxy- | C5
68298-78-2 | 2-Propenoic acid, 2-methyl-, 2-[[[[5-[[[2-[ethyl[(heptadecafluorooctyl)sulfonyl]amino]ethoxy]carbonyl]amino]-2-methylphenyl]amino]carbonyl]oxy]propyl ester, telomer with butyl 2-propenoate, 2-[[[[5-[[[2-[ethyl[(nonafluorobutyl) sulfonyl]amino]ethoxy] | C4-C8
68298-60-2 | 2-Propenoic acid, 2-[butyl[(pentadecafluoroheptyl)sulfonyl]amino]ethyl ester | C7
68298-13-5 | 1-Pentanesulfonamide, 1,1,2,2,3,3,4,4,5,5,5-undecafluoro-N-methyl- | C5
68298-11-3 | 1-Propanaminium, 3-[[(heptadecafluorooctyl)sulfonyl](3-sulfopropyl)amino]-N-(2-hydroxyethyl)-N,N-dimethyl-, inner salt | C8
68298-10-2 | 1-Heptanesulfonamide, 1,1,2,2,3,3,4,4,5,5,6,6,7,7,7-pentadecafluoro-N-(phenylmethyl)- | C7
68298-09-9 | 1-Hexanesulfonamide, 1,1,2,2,3,3,4,4,5,5,6,6,6-tridecafluoro-N-(phenylmethyl)- | C6
68298-08-8 | 1-Pentanesulfonamide, 1,1,2,2,3,3,4,4,5,5,5-undecafluoro-N-(phenylmethyl)- | C5
68298-06-6 | 2-Propenoic acid, 2-[ethyl[(undecafluoropentyl)sulfonyl]amino]ethyl ester | C5
68259-39-2 | Poly[oxy(methyl-1,2-ethanediyl)], alpha-[2- [ethyl[(pentadecafluoroheptyl)sulfonyl]amino]ethyl]-omega-hydroxy- | C7
68259-38-1 | Poly[oxy(methyl-1,2-ethanediyl)], alpha-[2-[ethyl[(tridecafluorohexyl)sulfonyl]amino]ethyl]-omega-hydroxy- | C6
68259-15-4 | 1-Hexanesulfonamide, 1,1,2,2,3,3,4,4,5,5,6,6,6-tridecafluoro-N-methyl- | C6
68259-14-3 | 1-Heptanesulfonamide, 1,1,2,2,3,3,4,4,5,5,6,6,7,7,7-pentadecafluoro-N-methyl- | C7
68259-12-1 | 1-Nonanesulfonic acid, 1,1,2,2,3,3,4,4,5,5,6,6,7,7,8,8,9,9,9-nonadecafluoro- | C9
68259-09-6 | 1-Pentanesulfonic acid, 1,1,2,2,3,3,4,4,5,5,5-undecafluoro-, ammonium salt | C5
68259-08-5 | 1-Hexanesulfonic acid, 1,1,2,2,3,3,4,4,5,5,6,6,6-tridecafluoro-, ammonium salt | C6
68259-07-4 | 1-Heptanesulfonic acid, 1,1,2,2,3,3,4,4,5,5,6,6,7,7,7-pentadecafluoro-, ammonium salt | C7
68259-06-3 | 1-Nonanesulfonyl fluoride, 1,1,2,2,3,3,4,4,5,5,6,6,7,7,8,8,9,9,9-nonadecafluoro- | C9
68239-75-8 | 1-Heptanesulfonamide, N-ethyl-1,1,2,2,3,3,4,4,5,5,6,6,7,7,7-pentadecafluoro-N-[3-(trimethoxysilyl)propyl]- | C7
68239-74-7 | 1-Hexanesulfonamide, 1,1,2,2,3,3,4,4,5,5,6,6,6-tridecafluoro-N-(4-hydroxybutyl)-N-methyl- | C6
68239-73-6 | 1-Octanesulfonamide, 1,1,2,2,3,3,4,4,5,5,6,6,7,7,8,8,8-heptadecafluoro-N-(4-hydroxybutyl)-N-methyl- | C8
68239-72-5 | 1-Pentanesulfonamide, 1,1,2,2,3,3,4,4,5,5,5-undecafluoro-N-(4-hydroxybutyl)-N-methyl- | C5
68228-00-2 | 2-Propenoic acid, ethyl ester, polymer with 4-[[(heptadecafluorooctyl)sulfonyl]methylamino]butyl 2-propenoate, 4-[methyl[(nonafluorobutyl)sulfonyl]amino]butyl 2-propenoate, alpha-(2-methyl-1-oxo-2-propenyl)-omega-hydroxypoly(oxy-1,4-butanediyl), a-(2-methyl | C4-C8
68227-99-6 | 2-Propenoic acid, 4-[methyl[(undecafluoropentyl)sulfonyl]amino]butyl ester | C5
68227-98-5 | 2-Propenoic acid, 4-[methyl[(tridecafluorohexyl)sulfonyl]amino]butyl ester | C6
68227-97-4 | 2-Propenoic acid, 4-[methyl[(pentadecafluoroheptyl)sulfonyl]amino]butyl ester | C7
68227-96-3 | 2-Propenoic acid, butyl ester, telomer with 2-[[(heptadecafluorooctyl)sulfonyl]methylamino]ethyl 2-propenoate, 2-[methyl[(nonafluorobutyl)sulfonyl]amino]ethyl 2-propenoate, alpha-(2-methyl-1-oxo-2-propenyl)-omega-hydroxypoly(oxy-1,4-butanediyl), alpha-(2-methyl | C4-C8
68227-94-1 | 2-Propenoic acid, 2-[[(heptadecafluorooctyl)sulfonyl]methylamino]ethyl ester, polymer with 2-[methyl[( nonafluorobutyl)sulfonyl]amino]ethyl 2-propenoate, alpha-(2-methyl-1-oxo-2-propenyl)-omega-hydroxypoly(oxy-1,2-ethanediyl), alpha-(2-methyl-1-oxo-2-propenyl)-omega | C4-C8
68227-87-2 | 2-Propenoic acid, 2-methyl-, 2-[ethyl[(heptadecafluorooctyl)sulfonyl]amino]ethyl ester, telomer with 2-[ethyl[( nonafluorobutyl)sulfonyl]amino]ethyl 2-methyl-2-propenoate, 2-[ethyl[(pentadecafluoroheptyl)sulfonyl]amino]ethyl 2-methyl-2-propenoate, 2- | C4-C8
68156-07-0 | Cyclohexanesulfonic acid, decafluoro(trifluoromethyl)-, potassium salt | C7 cyclic
68156-06-9 | Cyclohexanesulfonyl fluoride, decafluoro(pentafluoroethyl)- | C8 cyclic
68156-00-3 | Cyclohexanesulfonyl fluoride, nonafluorobis(trifluoromethyl)- | C8 cyclic
68084-62-8 | 2-Propenoic acid, 2-[methyl[(pentadecafluoroheptyl)sulfonyl]amino]ethyl ester | C7
68081-83-4 | Carbamic acid, (4-methyl-1,3-phenylene)bis-, bis[2-[ethyl[(perfluoro- C4-8-alkyl)sulfonyl]amino]ethyl] ester | C4-C8
67969-65-7 | 1-Hexanesulfonamide, N-ethyl-1,1,2,2,3,3,4,4,5,5,6,6,6-tridecafluoro-N-[2-(phosphonooxy)ethyl]- | C6
67940-02-7 | 1-Heptanesulfonamide, N-[3-(dimethylamino)propyl]-1,1,2,2,3,3,4,4,5,5,6,6,7,7,7-pentadecafluoro-, monohydrochloride | C7
67939-98-4 | 1-Heptanesulfonamide, N-ethyl-1,1,2,2,3,3,4,4,5,5,6,6,7,7,7-pentadecafluoro-N-[2-(phosphonooxy)ethyl]-, diammonium salt | C7
67939-97-3 | 1-Heptanesulfonamide, N,N'-[phosphinicobis(oxy-2,1-ethanediyl)]bis[N-ethyl-1,1,2,2,3,3,4,4,5,5,6,6,7,7,7-pentadecafluoro-, ammonium salt | C7
67939-96-2 | 2-Propenoic acid, 2-methyl-, 2-[methyl[(pentadecafluoroheptyl)sulfonyl]amino]ethyl ester | C7
67939-94-0 | 1-Heptanesulfonamide, N,N',N''-[phosphinylidynetris(oxy-2,1-ethanediyl)]tris[N-ethyl-1,1,2,2,3,3,4,4,5,5,6,6,7,7,7-pentadecafluoro- | C7
67939-93-9 | 1-Heptanesulfonamide, N,N'-[phosphinicobis(oxy-2,1-ethanediyl)]bis[N-ethyl-1,1,2,2,3,3,4,4,5,5,6,6,7,7,7-pentadecafluoro- | C7
67939-92-8 | 1-Hexanesulfonamide, N,N'-[phosphinicobis(oxy-2,1-ethanediyl)]bis[N-ethyl-1,1,2,2,3,3,4,4,5,5,6,6,6-tridecafluoro- | C6
67939-90-6 | 1-Pentanesulfonamide, N-ethyl-1,1,2,2,3,3,4,4,5,5,5-undecafluoro-N-[2-(phosphonooxy)ethyl]- | C5
67939-88-2 | 1-Octanesulfonamide, N-[3-(dimethylamino)propyl]-1,1,2,2,3,3,4,4,5,5,6,6,7,7,8,8,8-heptadecafluoro-, monohydrochloride | C8
67939-87-1 | 1-Pentanesulfonamide, N,N'-[phosphinicobis(oxy-2,1-ethanediyl)]bis[N-ethyl-1,1,2,2,3,3,4,4,5,5,5-undecafluoro- | C5
67939-61-1 | 2-Propenoic acid, 2-methyl-, 4-[methyl[(tridecafluorohexyl)sulfonyl]amino]butyl ester | C6
67939-42-8 | 1-Octanesulfonamide, N-ethyl-1,1,2,2,3,3,4,4,5,5,6,6,7,7,8,8,8-heptadecafluoro-N-[3-(trichlorosilyl)propyl]- | C8
67939-37-1 | 2-Propenoic acid, 2-methyl-, 2-[ethyl[(pentadecafluoroheptyl)sulfonyl]amino]ethyl ester, polymer with octadecyl 2-propenoate and 2-propenoic acid | C7
67939-36-0 | 2-Propenoic acid, 2-methyl-, 2-[ethyl[(pentadecafluoroheptyl)sulfonyl]amino]ethyl ester | C7
67923-61-9 | 1-Heptanesulfonamide, N-ethyl-1,1,2,2,3,3,4,4,5,5,6,6,7,7,7-pentadecafluoro-N-[2-(phosphonooxy)ethyl]- | C7
67906-74-5 | 2-Propenoic acid, 2-methyl-, 2-[ethyl[(undecafluoropentyl)sulfonyl]amino]ethyl ester, polymer with octadecyl 2-propenoate and 2-propenoic acid | C5
67906-73-4 | 2-Propenoic acid, 2-methyl-, 2-[ethyl[(undecafluoropentyl)sulfonyl]amino]ethyl ester | C5
67906-71-2 | 2-Propenoic acid, 2-methyl-, 2-[ethyl[(tridecafluorohexyl)sulfonyl]amino]ethyl ester, polymer with octadecyl 2-propenoate and 2-propenoic acid | C6
67906-70-1 | 2-Propenoic acid, 2-methyl-, 2-[ethyl[(tridecafluorohexyl)sulfonyl]amino]ethyl ester | C6
67906-41-6 | 1-Heptanesulfonamide, N-ethyl-1,1,2,2,3,3,4,4,5,5,6,6,7,7,7-pentadecafluoro-N-2-propenyl- | C7
67906-40-5 | 2-Propenoic acid, 2-methyl-, 4-[methyl[(undecafluoropentyl)sulfonyl]amino]butyl ester | C5
67906-38-1 | 2-Propenoic acid, 2-methyl-, 4-[methyl[(pentadecafluoroheptyl)sulfonyl]amino]butyl ester | C7
67584-62-7 | Glycine, N-ethyl-N-[(pentadecafluoroheptyl)sulfonyl]-, potassium salt | C7
67584-61-6 | 2-Propenoic acid, 2-methyl-, 2-[methyl[(tridecafluorohexyl)sulfonyl]amino]ethyl ester | C6
67584-60-5 | 2-Propenoic acid, 2-methyl-, 2-[methyl[(undecafluoropentyl)sulfonyl]amino]ethyl ester | C5
67584-58-1 | 1-Propanaminium, N,N,N-trimethyl-3-[[(pentadecafluoroheptyl)sulfonyl]amino]-, iodide | C7
67584-57-0 | 2-Propenoic acid, 2-[methyl[(tridecafluorohexyl)sulfonyl]amino]ethyl ester | C6
67584-56-9 | 2-Propenoic acid, 2-[methyl[(undecafluoropentyl)sulfonyl]amino]ethyl ester | C5
67584-54-7 | 1-Heptanesulfonamide, N-[3-(dimethylamino)propyl]-1,1,2,2,3,3,4,4,5,5,6,6,7,7,7-pentadecafluoro- | C7
67584-53-6 | Glycine, N-ethyl-N-[(tridecafluorohexyl)sulfonyl]-, potassium salt | C6
67584-52-5 | Glycine, N-ethyl-N-[(undecafluoropentyl)sulfonyl]-, potassium salt | C5
67584-50-3 | 1-Heptanesulfonamide, N-ethyl-1,1,2,2,3,3,4,4,5,5,6,6,7,7,7-pentadecafluoro-N-[3-(trichlorosilyl)propyl]- | C7
67584-49-0 | 1-Heptanesulfonamide, 1,1,2,2,3,3,4,4,5,5,6,6,7,7,7-pentadecafluoro-N-2-propenyl- | C7
67584-48-9 | 1-Hexanesulfonamide, 1,1,2,2,3,3,4,4,5,5,6,6,6-tridecafluoro-N-2-propenyl- | C6
66008-70-6 | 2-Propenoic acid, 2-[methyl[(2,2,3,3,4,4,5,5,6,6,7,7,7-tridecafluoroheptyl)sulfonyl]amino]ethyl ester | C7
66008-69- 3 | 2-Propenoic acid, 2-[[(2,2,3,3,4,4,5,5,6,6,7,7,8,8,9,9,9-heptadecafluorononyl)sulfonyl]methylamino]ethyl ester | C9
66008-68-2 | 2-Propenoic acid, 2-[[(2,2,3,3,4,4,5,5,6,6,7,7,8,8,9,9,10,10,11,11,11- eicosafluoroundecyl)sulfonyl]methylamino]ethyl ester | C11
61577-14-8 | 2-Propenoic acid, 2-methyl-, 4-[[(heptadecafluorooctyl)sulfonyl]methylamino]butyl ester | C8
60270-55-5 | 1-Heptanesulfonic acid, 1,1,2,2,3,3,4,4,5,5,6,6,7,7,7-pentadecafluoro-, potassium salt | C7
59071-10-2 | 2-Propenoic acid, 2-[ethyl[(pentadecafluoroheptyl)sulfonyl]amino]ethyl ester | C7
58920-31-3 | 2-Propenoic acid, 4-[[(heptadecafluorooctyl)sulfonyl]methylamino]butyl ester | C8
56773-42-3 | Ethanaminium, N,N,N-triethyl-, salt with 1,1,2,2,3,3,4,4,5,5,6,6,7,7,8,8,8-heptadecafluoro-1-octanesulfonic acid (1:1) | C8
56372-23-7 | Poly(oxy-1,2-ethanediyl), alpha-[2-[ethyl[(tridecafluorohexyl)sulfonyl]amino]ethyl]-omega-hydroxy- | C6
55910-10-6 | Glycine, N-[(heptadecafluorooctyl)sulfonyl]-N-propyl-, potassium salt | C8
52550-45-5 | Poly(oxy-1,2-ethanediyl), alpha-[2-[[(heptadecafluorooctyl)sulfonyl]propylamino]ethyl]-omega-hydroxy- | C8
52166-82-2 | 1-Propanaminium, N,N,N-trimethyl-3-[[(tridecafluorohexyl)sulfonyl]amino]-, chloride | C6
52032-20-9 | Poly(oxy-1,2-ethanediyl), alpha-[[[(heptadecafluorooctyl)sulfonyl]methylamino]carbonyl]-omega-butoxy- | C8
51032-47-4 | Benzenesulfonic acid, [[[(heptadecafluorooctyl)sulfonyl]amino]methyl]-, monosodium salt | C8
50598-29-3 | 1-Octanesulfonamide, 1,1,2,2,3,3,4,4,5,5,6,6,7,7,8,8,8-heptadecafluoro-N-(phenylmethyl)- | C8
50598-28-2 | 1-Hexanesulfonamide, N-[3-(dimethylamino)propyl]-1,1,2,2,3,3,4,4,5,5,6,6,6-tridecafluoro- | C6
38850-60-1 | 1-Propanesulfonic acid, 3-[[3-(dimethylamino)propyl][(tridecafluorohexyl)sulfonyl]amino]- | C6
38850-52-1 | 1-Propanaminium, 3-[(carboxymethyl)[(tridecafluorohexyl)sulfonyl]amino]-N,N,N-trimethyl-, inner salt | C6
37338-48-0 | Poly[oxy(methyl-1,2-ethanediyl)], alpha-[2-[ethyl[(heptadecafluorooctyl)sulfonyl]amino]ethyl]-omega-hydroxy- | C8
34455-03-3 | 1-Hexanesulfonamide, N-ethyl-1,1,2,2,3,3,4,4,5,5,6,6,6-tridecafluoro-N-(2-hydroxyethyl)- | C6
24924-36-5 | 1-Octanesulfonamide, N-ethyl-1,1,2,2,3,3,4,4,5,5,6,6,7,7,8,8,8-heptadecafluoro-N-2-propenyl- | C8
21055-88-9 | Carbamic acid, (4-methyl-1,3-phenylene)bis-, bis[2-[ethyl[(heptadecafluorooctyl) sulfonyl]amino]ethyl] ester | C8
13417-01-1 | 1-Octanesulfonamide, N-[3-(dimethylamino)propyl]-1,1,2,2,3,3,4,4,5,5,6,6,7,7,8,8,8-heptadecafluoro- | C8
3872-25-1 | 1-Pentanesulfonic acid, 1,1,2,2,3,3,4,4,5,5,5-undecafluoro-, potassium salt | C5
3871-99-6 | 1-Hexanesulfonic acid, 1,1,2,2,3,3,4,4,5,5,6,6,6-tridecafluoro-, potassium salt | C6
3871-50-9 | Glycine, N-ethyl-N-[(heptadecafluorooctyl)sulfonyl]-, sodium salt | C8
3820-83-5 | 1-Octanesulfonamide, N-ethyl-1,1,2,2,3,3,4,4,5,5,6,6,7,7,8,8,8-heptadecafluoro-N-[2-(phosphonooxy)ethyl]- | C8
3107-18-4 | Cyclohexanesulfonic acid, undecafluoro-, potassium salt | C6 cyclic
2991-52-8 | Glycine, N-ethyl-N-[(heptadecafluorooctyl)sulfonyl]-, ammonium salt | C8
2991-50-6 | Glycine, N-ethyl-N-[(heptadecafluorooctyl)sulfonyl]- | C8
2965-52-8 | 1-Octanesulfonamide, N,N'-[phosphinicobis(oxy-2,1-ethanediyl)]bis[N-ethyl-1,1,2,2,3,3,4,4,5,5,6,6,7,7,8,8,8-heptadecafluoro- | C8
2706-91-4 | 1-Pentanesulfonic acid, 1,1,2,2,3,3,4,4,5,5,5-undecafluoro- | C5
2263-09-4 | 1-Octanesulfonamide, N-butyl-1,1,2,2,3,3,4,4,5,5,6,6,7,7,8,8,8-heptadecafluoro-N-(2-hydroxyethyl)- | C8
1893-52-3 | 2-Propenoic acid, 2-[ethyl[(tridecafluorohexyl)sulfonyl]amino]ethyl ester | C6
1869-77-8 | Glycine, N-ethyl-N-[(heptadecafluorooctyl)sulfonyl]-, ethyl ester | C8
423-86-9 | 1-Octanesulfonamide, 1,1,2,2,3,3,4,4,5,5,6,6,7,7,8,8,8-heptadecafluoro-N-2-propenyl | C8
375-92-8 | 1-Heptanesulfonic acid, 1,1,2,2,3,3,4,4,5,5,6,6,7,7,7-pentadecafluoro- | C7
375-81-5 | 1-Pentanesulfonyl fluoride, 1,1,2,2,3,3,4,4,5,5,5-undecafluoro- | C5
355-46-4 | 1-Hexanesulfonic acid, 1,1,2,2,3,3,4,4,5,5,6,6,6-tridecafluoro- | C6
355-03-3 | Cyclohexanesulfonyl fluoride, undecafluoro- | C6 cyclic
335-97-7 | 1-Pentanesulfonamide, 1,1,2,2,3,3,4,4,5,5,5-undecafluoro-N-2-propenyl- | C5
335-77-3 | 1-Decanesulfonic acid, 1,1,2,2,3,3,4,4,5,5,6,6,7,7,8,8,9,9,10,10,10-heneicosafluoro- | C10
335-71-7 | 1-Heptanesulfonyl fluoride, 1,1,2,2,3,3,4,4,5,5,6,6,7,7,7-pentadecafluoro- | C7
335-24-0 | Cyclohexanesulfonic acid, 1,2,2,3,3,4,5,5,6,6-decafluoro-4- (pentafluoroethyl)-, potassium salt | C8 cyclic
Note: The extremely long 9CI names for the identified polymers have been truncated to save space in the Code of Federal Regulations (CFR). Each complete 9CI name is available at the EPA website in the TSCA Substance Registry System (SRS) at http://www.epa.gov/srs.

(2) The significant new uses are:

(i) Any manufacture or import for any use of any chemical substance listed in Table 1 of paragraph (a)(1) of this section.

(ii) Any manufacture or import for any use of any chemical substance listed in Table 2 of paragraph (a)(1) of this section, except as noted in paragraph (a)(3) of this section.

(iii) Any manufacture or import for any use of any chemical substance listed in Table 3 of paragraph (a)(1) of this section, except as noted in paragraph (a)(3) of this section.

(3) Manufacture or import of any chemical substance listed in Table 2 and Table 3 of paragraph (a)(1) of this section for the following specific uses shall not be considered as a significant new use subject to reporting under this section:

(i) Use as an anti-erosion additive in fire-resistant phosphate ester aviation hydraulic fluids.

(ii) Use as a component of a photoresist substance, including a photo acid generator or surfactant, or as a component of an anti-reflective coating, used in a photomicrolithography process to produce semiconductors or similar components of electronic or other miniaturized devices.

(iii) Use in coating for surface tension, static discharge, and adhesion control for analog and digital imaging films, papers, and printing plates, or as a surfactant in mixtures used to process imaging films.

(iv) Use as an intermediate only to produce other chemical substances to be used solely for the uses listed in paragraph (a)(3)(i), (ii), or (iii) of this section.

* * * * *

[FR Doc. E6-3444 Filed 3-9-06; 8:45 am]

BILLING CODE 6560-50-S